FEDERAL RESERVE SYSTEM

Consumer Advisory Council; Notice of Meeting of Consumer Advisory Council

The Consumer Advisory Council will meet on Thursday, March 30, 2000. The meeting, which will be open to public observation, will take place at the Federal Reserve Board's offices in Washington, D.C., in Dining Room E of the Martin Building (Terrace level). The meeting will begin at 8:45 a.m. and is expected to conclude at 1 p.m. The Martin Building is located on C Street, Northwest, between 20th and 21st Streets.

The Council's function is to advise the Board on the exercise of the Board's responsibilities under the Consumer Credit Protection Act and on other matters on which the Board seeks its advice. Time permitting, the Council will discuss the following topics:

Gramm-Leach-Bliley Act Privacy Regulations: Discussion of the proposed Regulation P which would enable consumers to prevent a financial institution from sharing personal information with third parties that are not affiliated with the financial institution.

Gramm-Leach-Bliley Act Sunshine Provisions: Discussion of the proposal regarding disclosure of CRA agreements between financial institutions and community groups.

Credit Card Disclosures in Solicitations: Discussion of whether credit card disclosures in solicitations are provided in a clear and conspicuous manner.

Committee Reports: Council committees will report on their work.

Other matters previously considered by the Council or initiated by Council members also may be discussed.

Persons wishing to submit views to the Council regarding any of the above topics may do so by sending written statements to Ann Bistay, Secretary of the Consumer Advisory Council, Division of Consumer and Community Affairs, Board of Governors of the Federal Reserve System, Washington, D.C. 20551. Information about this meeting may be obtained from Ms. Bistay, 202-452-6470. Telecommunications Device for the Deaf (TDD) users may contact Diane Jenkins, 202-452-3544.

Board of Governors of the Federal Reserve System, February 28, 2000.
Jennifer J. Johnson,
Secretary of the Board.

[FR Doc. 00-5078 Filed 3-1-00; 8:45 am]

BILLING CODE 6210-01-P